DEPARTMENT OF JUSTICE

Bureau of Justice Statistics

[OMB Number 1121-0311]

Agency Information Collection Activities: Proposed Collection; Comments Requested

ACTION: 30-Day notice of information collection under review: proposed collection; national inmate survey.

The Department of Justice (DOJ), Bureau of Justice Statistics, will be submitting the following information collection request to the Office of Management and Budget (OMB) for review and approval in accordance with the Paperwork Reduction Act of 1995. The proposed information collection is published to obtain comments from the public and affected agencies. This proposed information collection was previously published in the Federal Register Volume 75, Number 14, page 3757 on January 22, 2010, allowing for a sixty day comment period.

The purpose of this notice is to allow for an additional 30 days for public comment until April 28, 2010. This process is conducted in accordance with 5 CFR 1320.10.

If you have comments especially on the estimated public burden or associated response time, suggestions, or need a copy of the proposed information collection instrument with instructions or additional information, please contact Paige M. Harrison, Bureau of Justice Statistics, 810 Seventh Street, NW., Washington, DC 20531 (phone: 202-514-0809).

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information collection:

(1) Type of Information Collection: Reinstatement, with change, of existing collection for which approval has expired.

(2) Title of the Form/Collection: National Inmate Survey.

(3) Agency form number, if any, and the applicable component of the Department of Justice sponsoring the collection: Forms—National Inmate Survey (NIS), NIS consent (NIS-C), Juvenile consent (NIS-J), PAPI consent (NIS-P), Paper and Pencil Instrument (NIS-PAPI); The Bureau of Justice Statistics, Office of Justice Programs, Department of Justice is the sponsor for this collection.

(4) Affected public who will be asked or required to respond, as well as a brief abstract: Primary: State, Local, or Tribal Government. Other: Federal Government, Business or other for-profit, Not-for-profit institutions. The work under this clearance will be used to produce estimates for the incidence and prevalence of sexual assault within correctional facilities as required under the Prison Rape Elimination Act of 2003 (Pub. L. 108-79).

(5) An estimate of the total number of respondents and the amount of time estimated for an average respondent to respond: It is estimated that 105,500 respondents will spend approximately 35 minutes on average responding to the survey. This estimate has been revised from the 60-day notice.

(6) An estimate of the total public burden (in hours) associated with the collection: There are an estimated 63,681 total burden hours associated with this collection. This estimate has been revised from the estimate published in the 60-day notice (57,592).

If additional information is required contact: Lynn Bryant, Department Clearance Officer, United States Department of Justice, Justice Management Division, Policy and Planning Staff, Patrick Henry Building, Suite 1600, 601 D Street, NW., Washington, DC 20530.

Dated: March 24, 2010.
Lynn Bryant,
Department Clearance Officer, PRA, U.S. Department of Justice.

[FR Doc. 2010-6973 Filed 3-26-10; 8:45 am]

BILLING CODE 4410-18-P